DEPARTMENT OF ENERGY

Federal Energy Regulatory Commission

[Docket No. ER02-1936-001]

Ameren Services Company; Notice of Filing

June 25, 2002.

Take notice that on June 21, 2002, Ameren Services Company (ASC) tendered for filing a Network Integration Transmission Service Agreement and Network Operating Agreement between ASC and Mount Carmel Public Utility Co. ASC asserts that the purpose of the Agreement is to replace the unexecuted Agreements in Docket No. ER02-1936-000 with the executed Agreements.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Comment Date: July 12, 2002.

Linwood A. Watson, Jr.,
Deputy Secretary.

[FR Doc. 02-16556 Filed 7-01-02; 8:45 am]

BILLING CODE 6717-01-P